DEPARTMENT OF TRANSPORTATION

Federal Aviation Administration

Public Notice for Waiver of Aeronautical Land-Use Assurance; James M. Cox Dayton International Airport, Dayton, OH

AGENCY: Federal Aviation Administration, DOT.

ACTION: Notice of intent of waiver with respect to land.

SUMMARY: The Federal Aviation Administration (FAA) is considering a proposal to change a portion of the airport from aeronautical use to non-aeronautical use and to authorize the release of 382.9796 acres of airport property for future non-aeronautical development. The land consists of portions of 19 original airport acquired parcels. These parcels were acquired under grants 9-33-025-C511, 9-33-025-C813, 8-39-0029-01, 8-39-0029-03, 3-39-0029-03, and 3-39-0029-13 or without federal participation. There are no impacts to the airport by allowing the City of Dayton to sell or lease the property. The land is not needed for aeronautical use. Approval does not constitute a commitment by the FAA to financially assist in the sale or lease of the subject airport property nor a determination of eligibility for grant-in-aid funding from the FAA. The disposition of proceeds from the sale or lease of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before December 26, 2008.

ADDRESSES: Written comments on the Sponsor's request must be delivered or mailed to: Irene R. Porter, Program Manager, Detroit Airports District Office, 11677 South Wayne Road, Suite 107, Romulus, MI 48174.

FOR FURTHER INFORMATION CONTACT: Irene R. Porter, Program Manager, Federal Aviation Administration, Great Lakes Region, Detroit Airports District Office, DET ADO-607, 11677 South Wayne Road, Suite 107, Romulus, Michigan 48174. Telephone Number (734-229-2915)/FAX Number (734-229-2950). Documents reflecting this FAA action may be reviewed at this same location or at James M. Cox Dayton International Airport, Dayton, Ohio.

SUPPLEMENTARY INFORMATION:

Southeast Area Legal Description

Situated in Section 9, Town 3, Range 6 East, in the City of Dayton, Montgomery County, Ohio, being part of a 311.24 acre (deed) tract (Parcel 1) conveyed to the City of Dayton as recorded in Deed Book 778, Page 91 (being part of Parcels 1 as shown on the James M. Cox Dayton International Airport Annexation Area as recorded in Plat Book 112, Page 26) (all references to Deed Books, Official Records, Microfiche numbers, Survey Records and Plats refer to the Montgomery County Recorder's Office, Montgomery County, Ohio) and being a tract of land more particularly described as follows: Beginning at the northwest corner of Lot 7 of Imperial Subdivision as recorded in Plat Book 80, Page 36, being on the south line of said Section 9, witness a concrete monument found on the south line of said Section 9, being 2.49 feet west of said lot corner, thence along the south line of said Section 9 North 89°50′05″ West, 1613.75 feet;

Thence North 15°23′35″ West, 377.11 feet;

Thence North 57°50′40″ East, 1248.32 feet to the southern corner of an existing 3.516 acre lease tract;

Thence along said lease parcel the following two (2) described courses;

North 57°50′40″ East, 310.69 feet;

South 00°26′02″ East, 72.87 feet to the western line of the existing General Aviation 2 Roadway;

Thence along the west line of said roadway South 00°26′02″ East, 118.10 feet;

Thence along the south line of said roadway North 89°23′07″ East, 965.76 feet to the west right-of-way line of North Dixie Road, also being the City of Dayton Corporation Line;

Thence along said right-of-way line of North Dixie Road South 01°59′46″ East, 293.39 feet to the north line of a 1.22 acre tract conveyed to The City of Vandalia as recorded in Microfiche #80-034 E07;

Thence along the lines of said 1.22 acre tract for the following three (3) described courses;

87°30′14″ West, 285.00 feet;

South 01°59′46″ East, 102.88 feet;

South 61°53′41″ East, 329.41 feet to the west right-of-way line of North Dixie Road, also being the City of Dayton Corporation Line;

Thence along said right-of-way line South 01°59′46″ East, 191.33 feet to the north line of a 1.002 acre tract conveyed to AKRG LLC as recorded in Microfiche #01-0170 B02;

Thence along the north line of said 1.002 acre tract North 89°52′31″ West, 193.29 feet to the northwest corner of said 1.002 acre tract;

Thence along the west line of said 1.002 acre tract and along the west line of a 0.5 acre tract of land conveyed to Paul Clinard as recorded in Microfiche #96-0735 A12, South 01°05′31″ East, 264.19 feet to the southwest corner of said 0.5 acre tract and being on the north line of Imperial Subdivision as recorded in Plat Book 80, Page 36, also being the south line of said Section 9;

Thence along the south line of said Section 9, also being the north line of said Imperial Subdivision North 89°50′05″ West, 411.23 feet to the Point of Beginning, containing 43.709 acres, subject however to all covenants, conditions, restrictions and easements contained in any instrument of record pertaining to the above described tract of land.

Southwest Area Legal Description

Parcel SW-1

Situated in Section 8, 17 and 18, Town 3, Range 6 East, in the City of Dayton, Montgomery County, Ohio, being part of a 165.938 acre (deed) tract (Parcel 26) conveyed to The City of Dayton, Ohio as recorded in Deed Book 1941, Page 262, part of a 130.027 acres (deed) tract (Parcel 58) conveyed to the City of Dayton, Ohio as recorded in Deed Book 2397, Page 74, part of 50.549 acre (deed) tract (Parcel 75) conveyed to The City of Dayton, Ohio as recorded in Deed Book 2367, Page 714 and part of a 2.00 acre tract (Parcel 114) conveyed to The City of Dayton, Ohio as recorded in Microfiche No. 86-205 C06 (being part of Parcels 26, 58, 75 and 114 as shown on the James M. Cox Dayton International Airport Annexation Area recorded in Plat Book 112, Page 26) (all references to Deed Books, Official Records, Microfiche numbers, Survey Records and Plats refer to the Montgomery County Recorder's Office, Montgomery County, Ohio) and being a tract of land more particularly described as follows:

Commencing from a ¾″ iron pin found in a monument box at P.O.T. Station 115+00 as shown on the Location Plan Airport Access Road, recorded in Plat Book 108, Page 25, thence along the centerline of said Access Road North 03°37′23″ East, 227.06 feet to the centerline of U.S. 40 (National Road);

Thence along the centerline of U.S. 40 (National Road) North 84°55′18″ East, 1008.86 feet to the southeast corner of a 50.549 acre tract (Parcel 75 per James M. Cox Dayton International Airport Annexation Area as recorded in Plat Book 112, Page 26) conveyed to The City of Dayton, Ohio as recorded in Deed Book 2367, Page 714;

Thence along the east line of said 50.549 acre tract North 01°49′50″ East, 1805.76 feet to the north Limited Access Right-of-Way Line for Terminal Drive;

Thence along said Limited Access Right-of-Way Line South 56°54′21″ West, 10.23 feet to the Point of Beginning of the following described tract of land;

Thence along said Limited Access Right-of-Way Line the following five (5) described courses;

South 56°54′21″ West, 490.49 feet;

With a curve to the left, with an arc length of 980.63 feet, a radius of 1502.41 feet, with a delta angle of 37°23′50″ and a chord bearing and distance of South 38°14′05″ West, 963.31 feet;

With a curve to the right, with an arc length of 351.32 feet, a radius of 697.20 feet, with a delta angle of 28°52′18″ and a chord bearing and distance of South 33°48′05″ West, 347.62 feet;

South 48°14′14″ West, 707.08 feet;

With a curve to the right, with an arc length of 328.22 feet, a radius of 554.54 feet, with a delta angle of 33°54′43″ and a chord bearing and distance of South 65°11′38″ West, 323.45 feet to the north right-of-way line of U.S. Route 40;

Thence along said right-of-way line the following five (5) described courses;

South 82°08′59″ West, 367.40 feet;

South 84°45′18″ West, 450.00 feet;

South 84°37′43″ West, 897.21 feet;

North 18°38′19″ West, 108.86 feet;

North 89°22′33″ West, 19.59 feet to the west line of said Parcel 26;

Thence along said west line North 01°11′31″ East, 795.60 feet;

Thence through Parcel 26, 75 and 58 the following four (4) described courses;

North 56°28′16″ East, 2170.92 feet;

South 33°23′20″ East, 679.47 feet;

North 56°27′16″ East, 1629.79 feet;

South 33°32′44″ East, 403.05 feet to the Point of Beginning, containing 96.435 acres (4,200,706 sq. ft.), subject however to all covenants, conditions, restrictions and easements contained in any instrument of record pertaining to the above described tract of land.

Parcel SW-2

Situated in Section 8, Town 3, Range 6 East, in the City of Dayton, Montgomery County, Ohio, being part of a 130.027 acres (deed) tract (Parcel 58) conveyed to the City of Dayton, Ohio as recorded in Deed Book 2397, Page 74 (being part of Parcel 58 per James M. Cox Dayton International Airport Annexation Area as recorded in Plat Book 112, Page 26) (all references to Deed Books, Official Records, Microfiche numbers, Survey Records and Plats refer to the Montgomery County Recorder's Office, Montgomery County, Ohio) and being a tract of land more particularly described as follows:

Commencing from a ¾″ iron pin found in a monument box at P.O.T. Station 115+00 as shown on the Location Plan Airport Access Road, recorded in Plat Book 108, Page 25, thence along the centerline of said Access Road North 03°37′23″ East, 227.06 feet to the centerline of U.S. 40 (National Road);

Thence along the centerline of U.S. 40 (National Road) North 84°55′18″ East, 1008.86 feet to the southeast corner of a 50.549 acre tract (Parcel 75 per James M. Cox Dayton International Airport Annexation Area as recorded in Plat Book 112, Page 26) conveyed to the City of Dayton, Ohio as recorded in Deed Book 2367, Page 714;

Thence along the east line of said 50.549 acre tract North 01°49′50″ East, 1805.76 feet to the north Limited Access Right-of-Way Line for Terminal Drive;

Thence along said Limited Access Right-of-Way Line North 56°54′21″ East, 85.90 feet to the end of said right-of-way line;

Thence along the northern right-of-way line for Terminal Drive North 57°22′49″ East, 226.58 feet;

Thence North 33°32′44″ West, 459.47 feet to the future northern right-of-way line of Cargo Road and being the Point of Beginning of the following described tract of land;

Thence North 33°32′44″ West, 600.91 feet to the future southern right-of-way line of Concorde Drive;

Thence along said right-of-way line North 56°28′16″ East, 1175.24 feet;

Thence South 33°36′15″ East, 600.18 feet to the dedicated right-of-way line of Cargo Road, as recorded in Plat Book 202, Page 12;

Thence along said dedicated right-of-way South 56°23′45″ West, 382.16 feet to the end of the dedicated right-of-way for Cargo Road;

Thence along the projection of the northern right-of-way line of Cargo Road South 56°27′16″ West, 793.70 feet to the Point of Beginning, containing 16.210 acres (706124 sq. ft.), subject however to all covenants, conditions, restrictions and easements contained in any instrument of record pertaining to the above described tract of land.

Parcel SW-3

Situated in Section 8, Town 3, Range 6 East, in the City of Dayton, Montgomery County, Ohio, being part of a 130.027 acres (deed) tract conveyed to the City of Dayton, Ohio as recorded in Deed Book 2397, Page 74 (being part of Parcel 58 per James M. Cox Dayton International Airport Annexation Area as recorded in Plat Book 112, Page 26) (all references to Deed Books, Official Records, Microfiche numbers, Survey Records and Plats refer to the Montgomery County Recorder's Office, Montgomery County, Ohio) and being a tract of land more particularly described as follows:

Commencing from a ¾″ iron pin found in a monument box at P.O.T. Station 115+00 as shown on the Location Plan Airport Access Road, recorded in Plat Book 108, Page 25, thence along the centerline of said Access Road North 03°37′23″ East, 227.06 feet to the centerline of U.S. 40 (National Road);

Thence along the centerline of U.S. 40 (National Road) North 84°55′18″ East, 1008.86 feet to the southeast corner of a 50.549 acre tract (Parcel 75 per James M. Cox Dayton International Airport Annexation Area as recorded in Plat Book 112, Page 26) conveyed to the City of Dayton, Ohio as recorded in Deed Book 2367, Page 714;

Thence along the east line of said 50.549 acre tract North 01°49′50″ East, 1805.76 feet to the north Limited Access Right-of-Way Line for Terminal Drive;

Thence along said Limited Access Right-of-Way Line North 56°54′21″ East, 85.90 feet to the end of said right-of-way line;

Thence along the northern right-of-way line for Terminal Drive North 57°22′49″ East, 1011.19 feet to a southern corner of the dedicated right-of-way line of Cargo Road as shown on the Freight Drive, Cargo Road & Boeing Drive Dedication as recorded in Plat Book 202, Page 12;

Thence along the western end of the dedicated right-of-way for Boeing Drive the following two (2) described courses;

North 56°32′48″ East, 161.09 feet;

North 33°27′11″ West, 13.00 feet and being the Point of Beginning of the following described tract of land;

Thence continuing along said dedicated right-of-way the following six (6) described courses;

With a curve to the right, with an arc length of 54.40 feet, a radius of 35.00 feet, with a delta angle of 89°03′14″ and a chord bearing and distance of North 78°55′34″ West, 49.09 feet;

North 34°23′57″ West, 68.66 feet;

South 55°36′03″ West, 10.00 feet;

North 34°23′57″ West, 264.00 feet;

With a curve to the right, with an arc length of 63.39 feet, a radius of 40.00 feet, with a delta angle of 90°47′58″ and a chord bearing and distance of North 10°59′46″ East, 56.96 feet;

North 56°23′45″ East, 550.23 feet;

Thence through said Parcel 58 South 33°36′15″ East, 282.21 feet to the east line of said Lot 58;

Thence along said east line South 02°01′14″ West, 155.67 feet;

Thence South 56°32′48″ West, 450.04 feet to the Point of Beginning, containing 5.340 acres (232628 sq. ft.), subject however to all covenants, conditions, restrictions and easements contained in any instrument of record pertaining to the above described tract of land.

Parcel SW-4

Situated in Section 8, Town 3, Range 6 East, in the City of Dayton, Montgomery County, Ohio, being part of a 130.027 acres (deed) tract (Parcel 58) conveyed to the City of Dayton, Ohio as recorded in Deed Book 2397, Page 74, part of a 8.00 acres (deed) tract (Parcel 74) conveyed to the City of Dayton, Ohio, as recorded in Deed Book 2432, Page 452 and part of a 2.147 acre (deed) tract (Parcel 87) as conveyed to the City of Dayton as recorded in Deed Book 2421, Page 03 (being part of Parcels 58, 74 and 87 per James M. Cox Dayton International Airport Annexation Area as recorded in Plat Book 112, Page 26) (all references to Deed Books, Official Records, Microfiche numbers, Survey Records and Plats refer to the Montgomery County Recorder's Office, Montgomery County, Ohio) and being a tract of land more particularly described as follows:

Commencing from a ¾″ iron pin found in a monument box at P.O.T. Station 115+00 as shown on the Location Plan Airport Access Road, recorded in Plat Book 108, Page 25, thence along the centerline of said Access Road North 03°37′23″ East, 227.06 feet to the centerline of U.S. 40 (National Road);

Thence along the centerline of U.S. 40 (National Road) North 84°55′18″ East, 1008.86 feet to the southeast corner of a 50.549 acre tract (Parcel 75 per James M. Cox Dayton International Airport Annexation Area as recorded in Plat Book 112, Page 26) conveyed to the City of Dayton, Ohio as recorded in Deed Book 2367, Page 714;

Thence along the east line of said 50.549 acre tract North 01°49′50″ East, 1805.76 feet to the north Limited Access Right-of-Way Line for Terminal Drive;

Thence along said Limited Access Right-of-Way Line North 56°54′21″ East, 85.90 feet to the end of said right-of-way line;

Thence along the northern right-of-way line for Terminal Drive North 57°22′49″ East, 226.58 feet to the Point of Beginning of the following described tract of land;

Thence North 33°32′44″ West, 407.47 feet to the projected southern right-of-way line for Cargo Road;

Thence along said future right-of-way line North 56°27′16″ East, 793.75 feet to the west end of the right-of-way line of Cargo Road as shown on the Freight Drive, Cargo Road & Boeing Drive Dedication as recorded in Plat Book 202, Page 12;

Thence along said dedicated right-of-way line the following six (6) described courses;

North 56°23′45″ East, 4.99 feet;

With a curve to the right, with an arc length of 70.06 feet, a radius of 45.00 feet, with a delta angle of 89°12′11″ and a chord bearing and distance of South 79°00′02″ East, 63.20 feet;

South 34°23′57″ East, 318.00 feet;

South 55°36′03″ West, 4.00 feet;

With a curve to the right, with an arc length of 91.14 feet, a radius of 60.00 feet, with a delta angle of 87°02′10″ and a chord bearing and distance of South 13°01′48″ West, 82.63 feet;

South 33°27′11″ East, 1.00 feet;

Thence along the northern right-of-way line of Terminal Drive South 57°22′49″ West, 784.61 feet to the Point of Beginning, containing 8.014 acres (349075 sq. ft.), subject however to all covenants, conditions, restrictions and easements contained in any instrument of record pertaining to the above described tract of land.

Northwest Area Legal Description

Parcel 37

Situated in Sections 4 and 5, Town 3, Range 6 East, in the City of Dayton, Montgomery County, Ohio, being part of a 203.16 acre (deed) tract conveyed to the City of Dayton, Ohio as recorded in Deed Book 2297, Page 350 (being part of Parcel 37 as shown on the James M. Cox Dayton International Airport Annexation Area recorded in Plat Book 112, Page 26) (all references to Deed Books, Official Records, Microfiche numbers, Survey Records and Plats refer to the Montgomery County Recorder's Office, Montgomery County, Ohio) and being a tract of land more particularly described as follows:

Commencing from a 6″ diameter concrete monument with a chiseled “X” found at the Northeast corner of said section 5 and being the Northwest corner of said Section 4, thence along the common line with said sections South 00°02′25″ East, 70.00 feet to a ⅝″ iron pin with a cap stamped “CESO INC” set on the south right-of-way line of Lightner Road and being on the common line with said Sections 4 and 5 and being the Point of Beginning of the following described tract of land;

Thence along said south right-of-way line North 89°59′16″ East, 66.90 feet;

Thence through said Parcel 37 the following two (2) described courses;

South 00°19′33″ West, 2612.46 feet;

South 88°52′35″ West, 50.21 feet to the common line with said Sections 4 and 5;

Thence along said common line North 00°02′25″ West, 1410.91 feet to the southeast corner of Parcel 1 of said City of Dayton deed and being the northeast corner of Parcel 149 of the Dayton International Airport parcel numbers;

Thence along the south and west lines of said Parcel 1 of said City of Dayton deed the following two (2) described courses;

North 89°51′15″ West, 407.88 feet;

North 00°04′12″ West, 1202.48 feet to the south right-of-way line of Lightner Road;

Thence along said south right-of-way line South 89°51′16″ East, 408.50 feet to the Point of Beginning, containing 14.780 acres (643818 sq. ft.), subject however to all covenants, conditions, restrictions and easements contained in any instrument of record pertaining to the above described tract of land.

Parcel 65 (except 6.03 acres previously released)

Situated in the Township of Butler, County of Montgomery, State of Ohio and in the Southeast quarter of Section 5, Town 3, Range 6 East and being a tract of land conveyed to Mary Davidson and Stanley E. Davidson in Deed Book 1242, Page 20, Deed Book 1977, Page 1 and Deed Book 2206, Page 387 of the deed records of Montgomery County, Ohio, and to Thomas H. Davidson, James L. Davidson and Harriet E. Davidson in Deed Book 1242, Page 20 and Deed Book 2206, Page 387 of the deed records of said County and being more particularly bounded and described as follows: Beginning at an iron pipe in the east line of Section 5, Town 3, Range 6 East and in the centerline of Old Springfield Road, said iron pipe being North 6°05′50″ West 1780.00 feet from the southeast corner of said Section 5;

Thence South 85°01′West 1331.54 feet along the centerline of Old Springfield Road to an iron pipe;

Thence North 6°14′10″ West 886.12 feet to a stone;

Thence North 84°17′50″ East 1333.46 feet to an iron pipe in the east line of said Section 5;

Thence South 6°05′50″ East 902.81 feet along the east line of said Section 5 to the place of beginning;

Containing 27.36 acres, more or less.

Excepting the following described property: Situated in the City of Dayton, County of Montgomery, being part of Lot numbered 81143 of the consecutive numbers of lots on the revised plat of said City of Dayton, being more particularly described as follows:

Beginning at the centerline intersection of Peters Pike and vacated Old Springfield Pike; thence with the centerline of Peters Pike North 00°15′59″ West 31.08 feet to a point;

Thence North 89°44′01″ East 30.00 feet to a point in the east right of way of said Peters Pike; thence along the future north right of way of Old Springfield Pike North 87°40′00″ East 1305.41 feet to a point; thence continuing with said right of way South 89°09′51″ East 239.21 feet to a point, said point being the POINT OF BEGINNING OF THE PARCEL herein described;

Thence leaving said Right of Way North 00°15′59″ West 747.08 feet to a point;

Thence North 89°44′02″ East 321.58 feet to a point;

Thence South 00°15′59″ East 747.08 feet to a point in the future North Right of Way of Old Springfield Pike;

Thence continuing with said Right of Way South 89°44′02″ West 321.58 feet to the true point of beginning, containing 5.515 acres more or less.

Excepting the following described property: Situated in the City of Dayton, County of Montgomery, State of Ohio, and being part of Lot 81143 of the consecutive lot numbers in the City of Dayton and being more particularly described as follows:

Beginning at the centerline intersection of Peters Pike and vacated Old Springfield Pike; thence with the centerline of Peters Pike North 00°15′59″ West 31.08 feet to a point;

Thence North 89°44′01″ East 30.00 feet to a point in the east right of way of said Peters Pike; thence along the future north right of way of Old Springfield Pike North 87°40′00″ East 1305.41 feet to a point; thence continuing with said right of way South 89°09′51″ East 239.21 feet to a point,

Thence North 89°44′02″ East a distance of 321.58 feet, said point being the true point of beginning of the leased parcel herein described;

Thence leaving said right of way North 00°15′59″ West 747.08 feet to a point;

Thence North 89°44′02″ East 30.00 feet to a point;

Thence South 00°15′59″ East 747.08 feet to a point;

Thence South 89°44′02″ West 30.00′ to the true point of beginning, containing 0.515 acres more or less, subject to all public roads and easements of record.

Parcel 101

SITUATED IN SECTION 5, TOWN 3, RANGE 6 EAST OF BUTLER TOWNSHIP, MONTGOMERY COUNTY, OHIO, AND BEING A PART OF THE 23.215 ACRE TRACT AS DESCRIBED IN THE DEED BOOK 1487, PAGE 194 OF THE MONTGOMERY COUNTY, OHIO DEED RECORDS AND BEING MORE PARTICULARLY DESCRIBED AS FOLLOWS:

BEGINNING AT THE INTERSECTION OF THE CENTERLINE OF PETERS PIKE AND OLD SPRINGFIELD ROAD AND AT THE SOUTHEAST CORNER OF THE SAID 23.215 ACRE TRACT;

THENCE SOUTH 79°29′30″ WEST WITH THE CENTERLINE OF OLD SPRINGFIELD ROAD AND THE SOUTH LINE OF THE SAID 23.215 ACRE TRACT FOR A DISTANCE OF 702.20 FEET;

THENCE NORTH 0°05′30″ WEST FOR A DISTANCE OF 330.73 FEET;

THENCE NORTH 81°58′32″ EAST FOR A DISTANCE OF 697.30 FEET TO THE CENTERLINE OF PETERS PIKE AND TO THE EAST LINE OF THE SAID 23.215 ACRE TRACT;

THENCE SOUTH 0°05′30″ EAST WITH CENTERLINE OF PETERS PIKE AND WITH THE EAST LINE OF THE SAID 23.215 ACRE TRACT FOR A DISTANCE OF 300.00 FEET TO THE PLACE OF BEGINNING.

CONTAINING 5.000 ACRES MORE OR LESS.

Parcel 148

SITUATED IN THE TOWNSHIP OF BUTLER, COUNTY OF MONTGOMERY, STATE OF OHIO AND BEING PART OF THE WEST HALF OF THE SOUTHEAST QUARTER OF SECTION FIVE (5), TOWNSHIP THREE (3), RANGE SIX (6) EAST, BY BEGINNING AT A STONE IN THE CENTER OF THE ROAD ON THE HALF SECTION LINE; THENCE DUE EAST 1339.97 FEET TO A CORNER; THENCE DUE SOUTH 885.06 FEET TO THE CENTER OF THE ROAD; THENCE SOUTH 87 DEGREES 40 MINUTES WEST 1337.00 FEET TO A STONE IN THE CENTER OF ROAD CROSSING; THENCE NORTH ½ DEGREE WEST 941.49 FEET TO PLACE OF BEGINNING; CONTAINING 28.088 ACRES, MORE OR LESS.

Parcel 149

SITUATED IN THE CITY OF DAYTON, COUNTY OF MONTGOMERY AND IN THE STATE OF OHIO AND BEING 19 ACRES OUT OF THE SOUTHEAST CORNER OF THE NORTHEAST QUARTER OF SECTION 5, TOWN 3, RANGE 6 EAST BEING PART OF LOT 81143 CITY OF DAYTON AND BOUNDED AND DESCRIBED AS FOLLOWS:

BEGINNING AT THE SOUTHEAST CORNER OF THE NORTHEAST QUARTER OF THE AFORESAID SECTION 5; THENCE WEST WITH THE SOUTH LINE OF SAID QUARTER SECTION, 1210.44 FEET TO THE EAST LINE OF A 13 ACRE TRACT LAND FORMERLY OWNED BY JOHN TENNEY; THENCE NORTH PARALLEL WITH THE EAST LINE OF SAID QUARTER SECTION, 1389.3 FEET TO TOWNSHIP ROAD; THENCE EAST WITH SAID ROAD 1210.44 FEET TO THE EAST LINE OF SAID QUARTER; THENCE SOUTH WITH SAID EAST LINE, 1410.42 FEET TO THE PLACE OF BEGINNING, EXCEPTING 20 ACRES OFF THE WEST PART OF SAID TRACT OF LAND CONVEYED TO WILLIAM ROUSER BY COLUMBUS OAKS AND WIFE WILLIAM TENNEY AND WIFE BY DEED BEARING DATE OF MAY 19, 1875, THE LAND HEREIN CONVEYED CONTAINING 19 ACRES, MORE OR LESS.

Parcel 150

SITUATED IN THE CITY OF DAYTON, COUNTY OF MONTGOMERY, STATE OF OHIO AND BEING IN SECTION FIVE (5), TOWNSHIP THREE (3), RANGE SIX (6) E. AND BEING ALL OF LOT 81143 CITY OF DAYTON, AND BEING ALL OF LAND CONVEYED TO RALPH E. ALEXANDER AND EVELYN ALEXANDER BY DEED RECORDED IN DEED BOOK 2089, PAGE 163, AND BEING MORE PARTICULARLY BOUNDED AND DESCRIBED AS FOLLOWS:

BEGINNING AT A POINT IN THE CENTERLINE OF OLD SPRINGFIELD RD., AT THE SOUTHWEST CORNER OF LAND CONVEYED TO THE CITY OF DAYTON, BY DEED RECORDED IN DEED BOOK 2376, PAGE 572; THENCE NORTH 6°14′10″ WEST ALONG WEST LINE OF SAID CITY OF DAYTON LAND FOR A DISTANCE OF 886.12 FEET TO THE NORTHWEST CORNER OF SAID LAND; THENCE NORTH 84°17′50″ EAST ALONG THE NORTH LINE OF SAID CITY OF DAYTON LAND FOR A DISTANCE OF 123.02 FEET TO THE SOUTHEAST CORNER OF LAND CONVEYED TO ELMER J. AND JANET L PRIKKEL BY DEED RECORDED IN DEED BOOK 71-121-D06 SAID POINT BEING THE TRUE PLACE OF BEGINNING OF THE TRACT HEREIN CONVEYED, THENCE NORTH 6°05′50″ WEST ALONG THE EAST LINE OF SAID PRIKKEL LAND FOR A DISTANCE OF 1384.68 FEET TO A POINT IN THE CENTERLINE OF PRIVATE ROAD; THENCE NORTH 83°12′40″ E. ALONG THE CENTERLINE OF SAID ROAD FOR A DISTANCE OF 627.00 FEET TO A POINT IN THE NORTHWEST CORNER OF LAND CONVEYED TO JOHN M. AND MINNIE L. AVEY BY DEED RECORDED IN DEED BOOK 2215, PAGE 60; THENCE SOUTH 6°05′50″ EAST ALONG THE WEST LINE OF SAID AVEY LAND FOR A DISTANCE OF 1396.56 FEET TO A POINT IN THE NORTHLINE OF LAND CONVEYED TO THE CITY OF DAYTON, BY DEED RECORDED IN DEED BOOK 2374, PAGE 572; THENCE SOUTH 84°17′50″ WEST ALONG THE NORTH LINE OF SAID CITY OF DAYTON LAND FOR A DISTANCE OF 627.00 FEET TO THE TRUE PLACE OF BEGINNING, CONTAINING 20.016 ACRES, MORE OR LESS.

Parcel 152a

SITUATED IN THE TOWNSHIP OF BUTLER, IN THE COUNTY OF MONTGOMERY AND IN THE STATE OF OHIO AND LOCATED IN SECTION 5, TOWN 3, RANGE 6-E, BEING FURTHER BOUNDED AND DESCRIBED AS FOLLOWS:

BEGINNING AT AN IRON PIPE FOUND AT THE SOUTHWEST CORNER OF THE NORTHEAST QUARTER OF SECTION 5, THENCE NORTH 00°00′ EAST FOR 1172.20 FEET ALONG THE CENTERLINE OF PETERS PIKE TO A RAILROAD SPIKE SET MARKING THE PLACE OF BEGINNING OF THE TRACT HEREIN DESCRIBED;

THENCE CONTAINING NORTH 00°00′ EAST FOR 206.45 FEET ALONG SAID CENTERLINE TO AN IRON PIN FOUND ON THE CENTERLINE OF A PRIVATE DRIVE;

THENCE NORTH 89°49′05″ EAST FOR 1061.66 FEET ALONG THE CENTERLINE OF THE 30 FEET WIDE PRIVATE DRIVE TO AN IRON PIN FOUND; THENCE SOUTH 00°07′ WEST FOR 206.45 FEET TO AN IRON PIN SET; THENCE SOUTH 89°49′05″ WEST FOR 1061.24 FEET TO THE RAILROAD SPIKE MARKING THE TRUE PLACE OF BEGINNING OF THE ABOVE DESCRIBED TRACT.

CONTAINING A TOTAL OF 5.031 ACRES.

Parcel 153

SITUATED IN THE TOWNSHIP OF BUTLER, COUNTY OF MONTGOMERY, STATE OF OHIO AND BEING PART OF SECTION 5, TOWN 3, RANGE 6E, AS CONVEYED TO LILLIE E. YORK IN MICROFICHE 88-668D07 AND DEED BOOK 2004, PAGE 537, OF THE DEED RECORDS OF SAID COUNTY, AND BEING MORE PARTICULARLY DESCRIBED AS FOLLOWS:

BEGINNING AT AN IRON PIN AT THE INTERSECTION OF THE CENTER LINES OF PETERS PIKE AND A PRIVATE ROAD, SAID POINT BEING 1272.48 FEET, MEASURED ALONG THE CENTER LINE OF PETERS PIKE, SOUTH OF THE NORTH LINE OF MONTGOMERY COUNTY, WHICH IS ALSO THE NORTH LINE OF SECTION 5;

THENCE NORTH ALONG THE CENTER LINE OF PETERS PIKE FOR A DISTANCE OF 444.23 FEET TO AN IRON PIN;

THENCE N. 89 DEGREES 29′30″ E. PARALLEL TO THE NORTH LINE OF SECTION 5 FOR A DISTANCE OF 549.12 FEET TO AN IRON PIN IN THE WEST LINE OF PARCEL ONE [PARCEL 156];

THENCE SOUTH ALONG SAID WEST LINE FOR A DISTANCE OF 444.23 FEET TO AN IRON PIN IN THE CENTER LINE OF PRIVATE ROAD;

THENCE S. 89 DEGREES 29′30″ W. ALONG THE CENTER LINE OF SAID PRIVATE ROAD FOR A DISTANCE OF 549.12 FEET TO THE POINT OF BEGINNING.

CONTAINING 5.60 ACRES MORE OR LESS.

Parcel 156

SITUATED IN THE TOWNSHIP OF BUTLER, COUNTY OF MONTGOMERY, STATE OF OHIO AND BEING A PART SECTION 5, TOWN 3, RANGE 6E AS CONVEYED TO LILLIE E. YORK IN MICROFICHE 88-668D07 AND DEED BOOK 2004, PAGE 537, OF THE DEED RECORDS OF SAID COUNTY, AND BEING MORE PARTICULARLY BOUNDED AND DESCRIBED AS FOLLOWS:

STARTING AT AN IRON PIN AT THE INTERSECTION OF THE CENTER LINE OF PETERS PIKE AND THE NORTH LINE OF MONTGOMERY COUNTY, WHICH IS ALSO THE NORTH LINE OF SECTION 5 AND THE NORTH LINE OF LIGHTNER ROAD;

THENCE N. 89 DEGREES 29′ 30″ E. ALONG THE NORTH LINE OF SECTION 5 FOR A DISTANCE OF 549.12 FEET TO AN IRON PIN;

THENCE SOUTH ACROSS LIGHTNER ROAD FOR A DISTANCE OF 70.00 FEET TO THE POINT OF BEGINNING IN THE SOUTH LINE OF LIGHTNER ROAD;

THENCE N. 89 DEGREES 29′ 30″ E. ALONG THE SOUTH LINE OF LIGHTNER ROAD FOR A DISTANCE OF 1316.70 FEET TO A POINT;

THENCE SOUTH FOR A DISTANCE OF 1202.48 FEET TO A POINT IN THE CENTER LINE OF A PRIVATE ROAD;

THENCE S. 89 DEGREES 29′ 30″ W. ALONG SAID CENTER LINE FOR A DISTANCE OF 991.70 FEET TO AN IRON PIN AT THE SOUTHEAST CORNER OF A TRACT DESCRIBED IN MICROFICHE 82-230B10;

THENCE NORTH ALONG THE EAST LINE OF SAID TRACT FOR A DISTANCE OF 268.07 FEET TO AN IRON PIN AT ITS NORTHEAST CORNER;

THENCE S. 89 DEGREES 29′ 30″ W. ALONG THE NORTH LINE OF SAID TRACT FOR A DISTANCE OF 325.00 FEET TO AN IRON PIN AT ITS NORTHWEST CORNER;

THENCE NORTH FOR A DISTANCE OF 934.41 FEET TO THE POINT OF BEGINNING.

CONTAINING 34.346 ACRES MORE OR LESS.

Parcel 157

SITUATED IN THE TOWNSHIP OF BUTLER, COUNTY OF MONTGOMERY AND STATE OF OHIO AND BEING ELEVEN AND ONE-HALF (11½) ACRES OFF THE NORTHEAST QUARTER OF SECTION FIVE (5), TOWN THREE (3), RANGE SIX (6), EAST, AND BEGINNING AT THE NORTHWEST CORNER OF NANCY TENNY'S LINE AND RUNNING SOUTH 1272.48 FEET TO THE ROAD AGREED UPON BY THE PARTIES; THENCE WEST 390.72 FEET TO ROSANNA TENNY'S ELEVEN AND ONE-HALF (11½) ACRE TRACT; THENCE NORTH 1272.48 FEET TO THE COUNTY LINE; THENCE EAST 390.72 FEET TO THE PLACE OF BEGINNING.

Parcel 615

SITUATED IN THE TOWNSHIP OF MONROE, COUNTY OF MIAMI AND STATE OF OHIO, BEING A PART OF THE SOUTHEAST QUARTER OF SECTION 32, TOWN 4, RANGE 6, AS SHOWN BY SURVEY FILED IN VOLUME NO. 34 ON PLAT NO. 189, OF THE MIAMI COUNTY ENGINEER'S RECORDS OF LAND SURVEYS, BEING MORE PARTICULARLY DESCRIBED AS FOLLOWS: COMMENCING AT A HINGE NAIL SET OVER A RAILROAD SPIKE FOUND AT THE NORTHEAST CORNER OF THE SOUTHEAST QUARTER OF SECTION 32, SAID HINGE NAIL BEING ON THE CENTERLINE OF FREDERICK-GINGHAMSBURG ROAD; THENCE WITH THE ONE HALF SECTION LINE AND THE CENTERLINE OF FREDERICK-GINGHAMSBURG ROAD, NORTH 88 DEGREES 22 MINUTES 40 SECONDS WEST, 332.43 FEET TO A P.K. NAIL OVER A RAILROAD SPIKE; THENCE SOUTH 1 DEGREE 40 MINUTES 00 SECONDS WEST, 250.00 FEET TO AN IRON PIPE FOUND AT THE PLACE OF BEGINNING OF THE TRACT OF LAND HEREIN DESCRIBED; THENCE CONTINUING SOUTH 1 DEGREE 40 MINUTES 00 SECONDS WEST, 1080.31 FEET TO AN IRON PIN FOUND;

THENCE NORTH 88 DEGREES 47 MINUTES 08 SECONDS WEST, 811.05 FEET TO AN IRON PIN SET; THENCE NORTH 1 DEGREE 14 MINUTES 00 SECONDS EAST 1081.50 FEET TO AN IRON PIN SET; THENCE SOUTH 88 DEGREES 42 MINUTES 00 SECONDS EAST, 505.33 FEET TO AN IRON PIN FOUND; THENCE NORTH 1 DEGREE 14 MINUTES 00 SECONDS EAST, 250.00 FEET TO A RAILROAD SPIKE SET ON THE CENTERLINE OF THE FREDERICK-GINGHAMSBURG ROAD AND THE ONE HALF SECTION LINE WITNESS AN IRON PIN SET 30.00 FEET DISTANT ALONG THE LINE LAST DESCRIBED; THENCE WITH SAID CENTERLINE AND ONE HALF SECTION LINE, SOUTH 88 DEGREES 42 MINUTES 00 SECONDS EAST, 50.00 FEET TO A RAILROAD SPIKE SET, WITNESS AN IRON PIN SET 30.00 FEET DISTANT ALONG THE LINE NEXT DESCRIBED;

THENCE SOUTH 1 DEGREE 14 MINUTES 00 SECONDS WEST, 250.00 FEET TO AN IRON PIN SET; THENCE SOUTH 88 DEGREES 42 MINUTES 00 SECONDS EAST, 263.90 FEET TO THE IRON PIPE FOUND AT THE PLACE OF BEGINNING, CONTAINING 20.514 ACRES, SUBJECT TO ALL LEGAL HIGHWAYS.

Parcel 616

Situated in the Township of Monroe, County of Miami and State of Ohio, being a part of the southeast quarter of Section 32, Town 4, Range 6 East, as shown by survey filed in Volume No. 27, on Plat No. 48, of the Miami County Engineer's Record of Land Surveys, and being more particularly described as follows:

Beginning at a railroad spike in the centerline of the Ginghamsburg-Frederick Road which marks the northeast corner of the southeast quarter of Section 32, said railroad spike being the place of beginning of the tract herein described; thence South 01 degrees 49 minutes 25 seconds West with the one half section line, 2667.07 feet to a concrete monument at the southeast corner of Section 32 (also the southwest corner of Section 33); thence North 88 degrees 37 minutes 40 seconds West with the south section line of Section 32, and said County line, 650.53 feet to an iron pin; thence North 1 degree 40 minutes 22 seconds East, 1333.14 feet to an iron pin; thence South 89 degrees 30 minutes 46 seconds East 325.32 feet to an iron pin; thence North 1 degree 40 minutes East 1330.31 feet to a railroad spike on the centerline of the Ginghamsburg-Frederick Road and the one half section line, said railroad spike being witnessed by an iron pin 30.00 feet distance on the line last described; thence south 88 degrees 22 minutes 40 seconds East with said centerline and said one half section line 332.43 feet to a railroad spike at the place of beginning, containing 30.111 acres, being subject to all legal highways, easements and restrictions of record. Said property being located at 1051 Lightner Boulevard, Tipp City, Ohio.

Excepting the following described property: Situate in the Township of Monroe, County of Miami and State of Ohio, being a part of the southeast quarter of Section 32, Town 4, Range 6 East, as shown by survey filed in Volume No. 35, on Plat No. 35, of the Miami County Engineer's Record of Land Surveys, being more particularly described as follows:

Commencing at a concrete monument found at the southeast corner of the southeast quarter of said Section 32, said monument being on the north line of Lightner Road and on the Miami-Montgomery County Line; thence with said county line and section line and the North right of way line of Lightner Road, North 88 degrees 37 minutes 40 seconds West, 410.53 feet to an iron pin set at the place of beginning of the tract of land herein described; thence continuing with the county line and section line and north right of way line of Lightner Road, North 88 degrees 37 minutes 40 seconds West 240.00 feet to an iron pin found; thence North 1 degree 40 minutes 22 seconds East, 360.00 feet to an iron pin set; thence South 88 degrees 37 minutes 40 seconds East, 240.00 feet to an iron pin set; thence South 1 degree 40 minutes 22 seconds West, 360.00 feet to an iron pin at the place of beginning, containing 1.9834 acres, more or less. Subject to all legal highways.

Issued in Romulus, Michigan on November 18, 2008.
Matthew J. Thys,
Manager, Detroit Airports District Office, FAA, Great Lakes Region.

[FR Doc. E8-28075 Filed 11-25-08; 8:45 am]

BILLING CODE 4910-13-P